DEPARTMENT OF HOUSING AND URBAN DEVELOPMENT

[Docket No. FR-5117-N-109]

Notice of Proposed Information Collection: Comment Request; Third-Party Documentation Facsimile Transmittal Form

AGENCY: Office of Officer of the Chief Information Officer, HUD.

ACTION: Notice.

SUMMARY: The proposed information collection requirement described below will be submitted to the Office of Management and Budget (OMB) for review, as required by the Paperwork Reduction Act. The Department is soliciting public comments on the subject proposal.

DATES: Comments due: February 26, 2008.

ADDRESSES: Interested persons are invited to submit comments regarding this proposal. Comments should refer to the proposal by name and/or OMB Control Number (2535-0118) and should be sent to: Lillian L. Deitzer, Reports Management Officer, QDAM, Department or Housing and Urban Development, 451 7th Street, SW., Room 4176, Washington, DC 20410; telephone: 202-402-8048, (this is not a toll-free number) or e-mail Ms. Deitzer at Lillian_L._Deitzer@HUD.gov for a copy of the proposed form and other available information.

FOR FURTHER INFORMATION CONTACT: Lillian L. Deitzer, QDAM, Office of Policy and E-Government, Department of Housing and Urban Development, 451 Seventh Street, SW., Washington, DC 20410; telephone 202-708-2374 (this is not a toll-free number).

SUPPLEMENTARY INFORMATION: The Department will submit the proposed information collection to OMB for review, as required by the Paperwork Reduction Act of 1995 (44 U.S.C. Chapter 35, as amended).

This Notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: Third-Party Documentation Facsimile Transmittal Form.

OMB Control Number, if applicable: 2535-0118.

Description of the need for the information and proposed use: Facsimile transmittal information is necessary for submission of third-party documentation as part of an application for funding competitions.

Agency form numbers, if applicable: Form HUD-96011.

Estimation of the total number of hours needed to prepare the information collection including number of respondents, frequency of response, and hours of response:

Members of Affected Public: Business or other for-profit, Not-for-profit institutions, State, Local or Tribal government.

| Number of respondents | Annual responses | × | Hours per response | = | Burden hours
Reporting Burden | 33,000 | 1 |  | 10 |  | 3,300

Total Estimated Burden Hours: 3,300.

Status of the proposed information collection: Extension of a currently approved collection.

Authority: section 3506 of the Paperwork Reduction Act of 1995, 44 U.S.C. Chapter 35, as amended.

Dated: December 19, 2007.
Lillian L. Deitzer,
Departmental Paperwork Reduction Act Officer, Office of the Chief Information Officer.

[FR Doc. E7-25148 Filed 12-27-07; 8:45 am]

BILLING CODE 4210-67-P